SOCIAL SECURITY ADMINISTRATION

[Docket No. SSA-2008-0056]

Future Systems Technology Advisory Panel Meeting

AGENCY: Social Security Administration (SSA).

ACTION: Notice of Inaugural Meeting.

DATES: October 23, 2008, 8:30 a.m.-5 p.m. and October 24, 2008, 8:30 a.m.-12 p.m.

Location: L'Enfant Plaza Hotel.

ADDRESSES: 480 L'Enfant Plaza SW., Washington, DC 20024.

SUPPLEMENTARY INFORMATION:

Type of meeting: The meeting is open to the public.

Purpose: The Panel, under the Federal Advisory Committee Act of 1972, as amended, (hereinafter referred to as “the FACA”) shall report to and provide the Commissioner of Social Security independent advice and recommendations on the future of systems technology and electronic services at the agency five to ten years into the future. The Panel will recommend a road map to aid SSA in determining what future systems technologies may be developed to assist in carrying out its statutory mission. Advice and recommendations can relate to SSA's systems in the area of internet application, customer service, or any other arena that would improve SSA's ability to serve the American people.

Agenda: The Panel will meet on Thursday, October 23, 2008 from 8:30 a.m. until 5 p.m. and Friday, October 24, 2008 from 8:30 a.m. to 12 p.m. The agenda will be available on the Internet at http://www.ssa.gov/fstap/index.htm or available by e-mail or fax on request, one week prior to the starting date.

During the first meeting the Panel will hear presentations on the status of electronic service delivery, systems technology and customer service issues within SSA; review the Panel charter and operating procedures; hold deliberations and discuss the Panel's organization, operating procedures, and the agenda for the future meetings.

Contact Information: Records are kept of all proceedings and will be available for public inspection by appointment at the Panel office. Anyone requiring information regarding the Panel should contact the staff by:

Mail addressed to SSA, Future Systems Technology Advisory Panel, Room 800, Altmeyer Building, 6401 Security Boulevard, Baltimore, MD 21235-0001; Telephone at 202-358-6126; Fax at 202-358-6079; or E-mail to FSTAP@ssa.gov.

Dated: October 1, 2008.
Dianne L. Rose,
Designated Federal Officer, Future Systems Technology Advisory Panel.

[FR Doc. E8-23743 Filed 10-6-08; 8:45 am]

BILLING CODE 4191-02-P